DEPARTMENT OF AGRICULTURE

Animal and Plant Health Inspection Service

[Docket No. APHIS-2015-0059]

Notice of Request for Revision to and Extension of Approval of an Information Collection; Importation of Citrus From Peru

AGENCY: Animal and Plant Health Inspection Service, USDA.

ACTION: Revision to and extension of approval of an information collection; comment request.

SUMMARY: In accordance with the Paperwork Reduction Act of 1995, this notice announces the Animal and Plant Health Inspection Service's intention to request a revision to and extension of approval of an information collection associated with importation of citrus from Peru.

DATES: We will consider all comments that we receive on or before December 22, 2015.

ADDRESSES: You may submit comments by either of the following methods:

• Federal eRulemaking Portal: Go to http://www.regulations.gov/#!docketDetail;D=APHIS-2015-0059.

• Postal Mail/Commercial Delivery: Send your comment to Docket No. APHIS-2015-0059, Regulatory Analysis and Development, PPD, APHIS, Station 3A-03.8, 4700 River Road Unit 118, Riverdale, MD 20737-1238.

Supporting documents and any comments we receive on this docket may be viewed at http://www.regulations.gov/#!docketDetail;D=APHIS-2015-0059 or in our reading room, which is located in Room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: For information on the importation of citrus from Peru, contact Mr. Juan (Tony) Román, Senior Regulatory Policy Specialist, RCC, IRM, PHP, PPQ, APHIS, 4700 River Road Unit 156, Riverdale, MD 20737; (301) 851-2242. For copies of more detailed information on the information collection, contact Ms. Kimberly Hardy, APHIS' Information Collection Coordinator, at (301) 851-2727.

SUPPLEMENTARY INFORMATION: Title: Importation of Citrus From Peru.

OMB Control Number: 0579-0289.

Type of Request: Revision to and extension of approval of an information collection.

Abstract: The Plant Protection Act (PPA, 7 U.S.C. 7701 et seq.) authorizes the Secretary of Agriculture to restrict the importation, entry, or interstate movement of plants, plant products, and other articles to prevent the introduction of plant pests, including fruit flies, into the United States or their dissemination within the United States. Regulations authorized by the PPA concerning the importation of fruits and vegetables into the United States from certain parts of the world are contained in “Subpart—Fruits and Vegetables” (7 CFR 319.56-1 through 319.56-73).

In accordance with § 319.56-41, the citrus (grapefruit, limes, mandarins or tangerines, sweet oranges, and tangelos) from Peru is subject to certain conditions before entering the continental United States to prevent the introduction of plant pests into the United States. The regulations require the use of information collection activities, including inspections by national plant protection organization (NPPO) officials from Peru, grower registration and agreement, fruit fly trapping, monitoring, recordkeeping, and a phytosanitary certificate.

Since the last approval of this collection, we have adjusted the estimates of burden to more accurately reflect the number of grower registrations and agreements, the number of hours for recordkeeping, the number of respondents for phytosanitary certificates, and to account for activities that were omitted from the last collection (fruit fly management program, reinstatement of production sites, permits, and certification and recertification of cold treatment carriers).

We are asking the Office of Management and Budget (OMB) to approve our use of these information collection activities, as described, for an additional 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public reporting burden for this collection of information is estimated to average 7.382 hours per response.

Respondents: NPPO of Peru and importers and growers of citrus fruit in Peru.

Estimated annual number of respondents: 31.

Estimated annual number of responses per respondent: 137.

Estimated annual number of responses: 4,245.

Estimated total annual burden on respondents: 31,339 hours. (Due to averaging, the total annual burden hours may not equal the product of the annual number of responses multiplied by the reporting burden per response.)

All responses to this notice will be summarized and included in the request for OMB approval. All comments will also become a matter of public record.

Done in Washington, DC, this 19th day of October 2015.
Kevin Shea,
Administrator, Animal and Plant Health Inspection Service.

[FR Doc. 2015-27099 Filed 10-22-15; 8:45 am]

BILLING CODE 3410-34-P